FEDERAL RETIREMENT THRIFT INVESTMENT

Board Member Meeting, June 26, 2017, 8:30 A.M. (In-Person)

Open Session

1. Approval of the Minutes for the May 31, 2017 Board Member Meeting

2. Monthly Reports

(a) Participant Activity Report

(b) Investment Performance Report

(c) Legislative Report

3. Vendor Financials

4. EBSA Audit Reports Update

5. IT Update

Closed Session

Information covered under 5 U.S.C. 552b(c)(4) and (c)(9)(B).

CONTACT PERSON FOR MORE INFORMATION: Kimberly Weaver, Director, Office of External Affairs, (202) 942-1640.

Dated: June 15, 2017.
Megan Grumbine,
General Counsel, Federal Retirement Thrift Investment Board.

[FR Doc. 2017-12847 Filed 6-19-17; 8:45 am]

BILLING CODE 6760-01-P